DEPARTMENT OF DEFENSE

Office of the Secretary; Defense Science Board

AGENCY: Department of Defense.

ACTION: Notice of Advisory Committee Meeting.

SUMMARY: The Defense Science Board Task Force on Employment of the National Ignition Facility (NIF) will meet in closed session on June 21-22, 2004, at Lawrence Livermore National Laboratory. This Task Force will review the experimental program under development for the National Ignition Facility, NIF is a key component of the National Nuclear Security Administration's (NNSA's) Stockpile Stewardship Program to maintain the nuclear weapons stockpile without nuclear testing. The NIF is a 192-beam laser designed to achieve fusion ignition and produce high-energy-density condition approaching those of nuclear weapons. NNSA and the high-energy-density physics community have developed a plan for activation and early use of NIF which includes a goal to demonstrate ignition by 2010 and also supports high priority, non-ignition experiments required for stockpile stewardship. In this assessment, the task force will assess the proposed ignition and “non-ignition” high-energy-density experimental programs at NIF. Review the overall balance and priority of activities within the proposed plan and the degree to which the proposed program of NIF experiments supports the near and long term goals of stockpile stewardship and the overall NIF mission. Assess the potential for NIF to support the design and development of new weapons. Focus on the extent to which major stakeholders in NIF are effectively integrated into the plan.

The mission of the Defense Science Board is to advise the Secretary of Defense and the Under Secretary of Defense for Acquisitions, Technology & Logistics on scientific and technical matters as they affect the perceived needs of the Department of Defense. At these meetings, the Defense Science Board Task Force will assess the proposed ignition and “non-ignition” high-energy-density experimental programs at NIF. Review the overall balance and priority of activities within the proposed plan and the degree to which the proposed program of NIF experiments supports the near and long term goals of stockpile stewardship and the overall NIF mission. Assess the potential for NIF to support the design and development of new weapons. Focus on the extent to which major stakeholders in NIF are effectively integrated into the plan.

In accordance with Section 10(d) of the Federal Advisory Committee Act, Pub. L. No. 92-463, as amended (5 U.S.C. app. II), it has been determined that these Defense Science Board Task Force meetings concern matters listed in 5 U.S.C. 552b(c)(1) and (4) and that, accordingly, these meetings will be closed to the public.

Dated: May 28, 2004.
L.M. Bynum,
Alternate OSD Federal Register Liaison Officer, Department of Defense.

[FR Doc. 04-12726 Filed 6-4-04; 8:45 am]

BILLING CODE 5001-06-M